NATIONAL SCIENCE FOUNDATION

Agency Information Collection Activities: Proposed Collection, Comment Request

AGENCY: National Science Foundation.

ACTION: Notice.

SUMMARY: The National Science Foundation (NSF) is announcing plans to request reinstatement and clearance for this collection. In accordance with the requirement of Section 3506 (c)(2) (A) of the Paperwork Reduction Act of 1995, we are providing opportunity for public comment on this action. After obtaining and considering public comment, NSF will prepare the submission requesting OMB clearance of this collection for no longer than three years.

Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information of respondents, including through the use of automated collection techniques or other forms of information technology.

DATES: Written comments should be received by April 11, 2011, to be assured of consideration. Comments received after that date will be considered to the extent practicable.

ADDRESSES: Written comments regarding the information collection and requests for copies of the proposed information collection request should be addressed to Suzanne Plimpton, Reports Clearance Officer, National Science Foundation, 4201 Wilson Boulevard, Room 295, Arlington, VA 22230, or by e-mail to splimpton@nsf.gov.

FOR FURTHER INFORMATION CONTACT: Suzanne Plimpton on (703) 292-7556 or send e-mail to splimpton@nsf.gov. Individuals who use a telecommunications device for the deaf (TDD) may call the Federal Information Relay Service (FIRS) at 1-800-877-8339 between 8 a.m. and 8 p.m., Eastern time, Monday through Friday.

SUPPLEMENTARY INFORMATION: Title of Collection: Informal Science Education (ISE) Program.

Evaluation for the National Science Foundation

OMB Number: 3145-0158.

Expiration Date of Approval: Not applicable.

Type of request: Reinstatement.

Abstract:

Informal Science Education (ISE) is an NSF program that supports innovation in anywhere, anytime, lifelong learning, through investments in research, development, infrastructure, and capacity-building for science, technology, engineering and mathematics (STEM) learning outside formal school settings. Informal science experiences can serve to spark young people's interest in pursuing careers in STEM fields as well as to improve public engagement with STEM, contributing to science learning for most citizens. For over 40 years, NSF ISE programming has supported efforts to engage the public in science and science learning. The program is charged with advancing public understanding of STEM content and processes and promoting engagement with informal STEM education experiences. Since the last major evaluation of NSF ISE (COSMOS Corporation, 1998), ISE has taken strategic steps to support the growing maturation of the informal science field, producing seminal documents such as Framework for Evaluating Impacts of Informal Science Education Projects (Friedman, 2008) and Learning Science in Informal Environments (NRC, 2009), and supporting field-wide resources such as the InformalScience.org Web site and the Center for the Advancement of Informal Science Education (CAISE). The program's grant solicitations have reflected a growing professionalization for the informal science community with new expectations for rigorous research on implementation and outcomes.

The ISE program evaluation will characterize changes in the informal science arena since 1999 and delineate the role in those changes of the NSF ISE program between 1999 and the present. The evaluation will do so by analyzing NSF ISE-funded projects over that time frame, attending in particular to the impact on informal science infrastructure, the rigor of individual project evaluations, the learning outcomes for diverse audiences, and the features of exemplary projects. The ISE program evaluation will employ a mixed-method approach including extensive document review of solicitations, proposals, reports, and published literature; qualitative and quantitative analyses of surveys and interviews with researchers and practitioners in the field; and case studies of influential projects, initiatives, and ideas. This information collection request will include a survey instrument for principal investigators of past and current ISE projects, one survey instrument for project evaluators, and protocols for follow-up interviews with a sample of principal investigators and evaluators.

Estimate of Burden:

Respondents: Individuals.

Frequency: One time.

Estimated Number of Respondents: 1010.

Estimated Burden Hours on Respondents: 550.

Dated: February 7, 2011.
Suzanne H. Plimpton,
Reports Clearance Officer, National Science Foundation.

[FR Doc. 2011-2976 Filed 2-9-11; 8:45 am]

BILLING CODE 7555-01-P